SOCIAL SECURITY ADMINISTRATION

[Docket No: SSA-2021-0021]

Agency Information Collection Activities: Comment Request

The Social Security Administration (SSA) publishes a list of information collection packages requiring clearance by the Office of Management and Budget (OMB) in compliance with Public Law 104-13, the Paperwork Reduction Act of 1995, effective October 1, 1995. This notice includes one revision of an OMB-approved information collection.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Comments: https://www.reginfo.gov/public/do/PRAMain. Submit your comments online referencing Docket ID Number [SSA-2021-0021].

(SSA), Social Security Administration, OLCA, Attn: Reports Clearance Director, 3100 West High Rise, 6401 Security Blvd., Baltimore, MD 21235, Fax: 410-966-2830, Email address: OR.Reports.Clearance@ssa.gov.

Or you may submit your comments online through https://www.reginfo.gov/public/do/PRAMain, referencing Docket ID Number [SSA-2021-0021].

SSA submitted the information collection below to OMB for clearance. Your comments regarding this information collection would be most useful if OMB and SSA receive them 30 days from the date of this publication. To be sure we consider your comments, we must receive them no later than July 8, 2021. Individuals can obtain copies of this OMB clearance package by writing to OR.Reports.Clearance@ssa.gov.

Filing Claims Under the Federal Tort Claims Act—20 CFR 429.101 -429.110—0960-0667. The Federal Tort Claims Act (FTCA) is the mechanism for compensating people who Federal employees injured through negligent or wrongful acts that occurred during the performance of those employees' official duties. SSA accepts claims filed under the FTCA for damages against the United States; loss of property; personal injury; or death resulting from an SSA employee's wrongful act or omission. The various types of claims included under this information collection request require claimants to provide information SSA can use to determine whether to make an award, compromise, or settlement under the FTCA. The respondents are individuals or entities making a claim under the FTCA.

Type of Request: Revision of an OMB-approved information collection.

Regulation citations | Number of respondents | Frequency of response | Average burden per response (minutes) | Estimated total annual burden (hours) | Average theoretical hourly cost amount (dollars) ** | Total annual opportunity cost (dollars) ***
429.102; 429.103 * | 1 | 1 | 1 | 0 | ** $27.07 | *** $0
429.104(a) | 11 | 1 | 5 | 1 | ** 27.07 | *** 27
429.104(b) | 43 | 1 | 5 | 4 | ** 27.07 | *** 108
429.104(c) | 1 | 1 | 5 | 0 | ** 27.07 | *** 0
429.106(b) | 8 | 1 | 10 | 1 | ** 27.07 | *** 27
Totals | 64 |  |  | 6 |  | *** 162
* We are including a one-hour placeholder burden for 20 CFR 429.102 and 429.103, as respondents complete OMB-approved Form SF-95, OMB No. 1105-0008. Since the burden for these citations is covered under a separate OMB number, we are not double-counting the burden here.
** We based this figure on the average U.S. citizen's hourly salary, as reported by the U.S. Bureau of Labor Statistics (https://www.bls.gov/oes/current/oes_nat.htm#00-0000).
*** This figure does not represent actual costs that SSA is imposing on recipients of Social Security payments to complete this application; rather, these are theoretical opportunity costs for the additional time respondents will spend to complete the application. There is no actual charge to respondents to complete the application.

Dated: June 2, 2021.
Naomi Sipple,
Reports Clearance Officer, Social Security Administration.

[FR Doc. 2021-11896 Filed 6-7-21; 8:45 am]

BILLING CODE 4191-02-P